DEPARTMENT OF ENERGY

Federal Energy Regulatory Commission

Combined Notice of Filings

Take notice that the Commission has received the following Natural Gas Pipeline Rate and Refund Report filings:

Filings Instituting Proceedings

Docket Number: PR19-13-000.

Applicants: Cypress Gas Pipeline, LLC.

Description: Tariff filing per 284.123(b),(e)+(g): 20180327 Petition for Rate Approval and Revised SOC to be effective 11/8/2018.

Filed Date: 11/8/18.

Accession Number: 201803275001.

Comments Due: 5 p.m. ET 11/29/18.

284.123(g) Protests Due: 5 p.m. ET 1/7/19.

Docket Numbers: RP19-265-000.

Applicants: Garden Banks Gas Pipeline, LLC.

Description: eTariff filing per 1430: Garden Banks FERC Form 501-G.

Filed Date: 11/8/18.

Accession Number: 20181108-5048.

Comments Due: 5 p.m. ET 11/20/18.

Docket Numbers: RP19-266-000.

Applicants: Southeast Supply Header, LLC.

Description: eTariff filing per 1430: SESH FERC Form 501-G.

Filed Date: 11/8/18.

Accession Number: 20181108-5049.

Comments Due: 5 p.m. ET 11/20/18.

Docket Numbers: RP19-267-000.

Applicants: Southeast Supply Header, LLC.

Description: eTariff filing per 1440: SESH Limited Section 4 to be effective 1/1/2019.

Filed Date: 11/8/18.

Accession Number: 20181108-5056.

Comments Due: 5 p.m. ET 11/20/18.

Docket Numbers: RP19-268-000.

Applicants: Elba Express Company, L.L.C.

Description: eTariff filing per 1430: FERC Form No. 501-G Report.

Filed Date: 11/8/18.

Accession Number: 20181108-5059.

Comments Due: 5 p.m. ET 11/20/18.

Docket Numbers: RP19-269-000.

Applicants: Southern LNG Company, L.L.C.

Description: eTariff filing per 1430: FERC Form No. 501-G Report.

Filed Date: 11/8/18.

Accession Number: 20181108-5060.

Comments Due: 5 p.m. ET 11/20/18.

Docket Numbers: RP19-270-000.

Applicants: Dominion Energy Carolina Gas Transmission.

Description: eTariff filing per 1430: DECG—FERC Form No. 501-G Report.

Filed Date: 11/8/18.

Accession Number: 20181108-5061.

Comments Due: 5 p.m. ET 11/20/18.

Docket Numbers: RP19-271-000.

Applicants: Big Sandy Pipeline, LLC.

Description: eTariff filing per 1430: BSP FERC Form 501-G.

Filed Date: 11/8/18.

Accession Number: 20181108-5084.

Comments Due: 5 p.m. ET 11/20/18.

Docket Numbers: RP19-272-000.

Applicants: KPC Pipeline, LLC.

Description: eTariff filing per 1430: FERC Form No. 501-G Filing.

Filed Date: 11/8/18.

Accession Number: 20181108-5101.

Comments Due: 5 p.m. ET 11/20/18.

Docket Numbers: RP19-273-000.

Applicants: MarkWest New Mexico, L.L.C.

Description: eTariff filing per 1430: FERC Form No. 501-G Filing.

Filed Date: 11/8/18.

Accession Number: 20181108-5106.

Comments Due: 5 p.m. ET 11/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2018.
Nathaniel J. Davis, Sr.,
Deputy Secretary.

[FR Doc. 2018-25074 Filed 11-15-18; 8:45 am]

BILLING CODE 6717-01-P